NATIONAL AERONAUTICS AND SPACE ADMINISTRATION

48 CFR Part 1822

Investigations of Suspected Forced or Indentured Child Labor

AGENCY: National Aeronautics and Space Administration (NASA).

ACTION: Final rule.

SUMMARY: This is a final rule amending the NASA FAR Supplement (NFS) to specify NASA's procedure for referring investigations of those suspected of using forced or indentured child labor.

EFFECTIVE DATE: August 9, 2001.

FOR FURTHER INFORMATION CONTACT: Paul Brundage, NASA Headquarters, Office of Procurement, Contract Management Division (Code HK), Washington, DC 20546-0001, (202) 358-0481, email: pbrundage@hq.nasa.gov.

SUPPLEMENTARY INFORMATION:

A. Background

The FAR provides that agencies should specify whether investigations under FAR 22.1503(e) should be referred to the Inspector General, the Attorney General, or the Secretary of the Treasury. This final rule provides that all such investigations shall be referred to NASA's Inspector General.

B. Regulatory Flexibility

NASA certifies that this rule will not have a significant economic impact on a substantial number of small business entities under the Regulatory Flexibility Act (5 U.S.C. 601 et seq.) because this rule only affects internal administrative procedures. However, NASA will consider comments from small entities concerning the affected NFS subpart in accordance with 5 U.S.C. 610.

C. Paperwork Reduction Act

The Paperwork Reduction Act does not apply because the changes do not impose information collection requirements that require the approval of the Office of Management and Budget under 44 U.S.C. 3501, et seq.

Lists of Subjects in 48 CFR Part 1822

Government procurement.

Tom Luedtke,
Associate Administrator for Procurement.

Accordingly, 48 CFR Part 1822 is amended as follows:

1. The authority citation for 48 CFR Part 1822 continues to read as follows:

Authority: 42 U.S.C. 2473(c)(1).

PART 1822—APPLICATION OF LABOR LAWS TO GOVERNMENT ACQUISITIONS

2. Subpart 1822.15 is added to read as follows:

Subpart 1822.15—Prohibition of Acquisition of Products Produced by Forced or Indentured Child Labor

1822.1503 Procedures for acquiring end products on the List of Products Requiring Contractor Certification as to Forced or Indentured Child Labor. (NASA supplements paragraph (e))

(e) All investigations under FAR Subpart 22.15 shall be referred to NASA's Office of Inspector General.

[FR Doc. 01-19997 Filed 8-8-01; 8:45 am]

BILLING CODE 7510-01-P